DEPARTMENT OF AGRICULTURE

Forest Service

Fresno County Resource Advisory Committee

AGENCY: Forest Service, USDA.

ACTION: Notice of meeting.

SUMMARY: The Fresno County Resource Advisory Committee will be meeting in Prather, California on October 2l and Clovis, California on November 18th. The purpose of these meetings will be to accept project proposals for the next funding cycle as authorized under the Secure Rural Schools and Community Self-Determination Act of 2000 (Pub. L. 110-343) for expenditure of Payments to States Fresno County Title II funds.

DATES: The meetings will be held on October 21, 2009 from 6 p.m. to 8 p.m. in Prather, CA and November 18, 2009 from 6 p.m. to 8 p.m. in Clovis, CA.

ADDRESSES: The meeting on October 21st will be held at the High Sierra Ranger District, 29688 Auberry Rd. Prather, CA and the meeting on November 18th will be held at the Sierra National Forest Supervisor's Office, 1600 Tollhouse Rd. Clovis, CA. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who I wish to bring Payments to States Fresno County Title II project matters to the attention of the Committee may file written statements with the Committee staff before or after the meeting. Agenda items to be covered include: (1) Accept Project Proposals, (2) Discuss Member Recruitment.

Dated: September 18, 2009.
Ray Porter,
District Ranger.

[FR Doc. E9-23036 Filed 9-24-09; 8:45 am]

BILLING CODE 3410-11-M